DEPARTMENT OF DEFENSE

Department of the Army; Corps of Engineers

Intent To Prepare a Draft Environmental Impact Statement for the Construction and Operation of an Open Pit Taconite Mine, an Ore Concentrator, a Pellet Plant, a Direct Reduced Iron Plant, a Steel Mill, and a Tailings Basin Proposed by Minnesota Steel Industries, LLC Near Nashwauk in Itasca County, MN

AGENCY: Department of the Army, U.S. Army Corps of Engineers, DoD.

ACTION: Notice of intent.

SUMMARY: Minnesota Steel Industries, LLC (Minnesota Steel) has applied to the St. Paul District, Corps of Engineers (Corps) for a permit to discharge fill material into wetlands to facilitate the construction and operation of an open pit taconite mine at the former Butler Taconite site near Nashwauk, Minnesota, and the construction of new facilities—a crusher, a concentrator, a pellet plant, a plant for producing direct reduced iron (DRI), and a steel mill consisting of two electric arc furnaces, two idle furnaces, two thin slab casters, and a sheet rolling mill. the former Butler Taconite Stage 1 tailings basin would be reactivated for the disposal of concentrator tailings. The mining process would require the construction of overburden, waste rock, and lean ore stockpiles just north of the proposed mine site. Ore would be hauled via truck from the mine to the adjacent ore concentrator. Concentrating the ore would involve crushing, grinding, magnetic separation, and flotation processes. Concentrator tailings would be pumped as slurry to the former Butler Taconite Stage 1 tailings basin approximately two miles southeast of the proposed mine site. The concentrate would be mixed with a binder and limestone, and converted to unfired pellets in balling drums or disks. The unfired pellets would be hardened in an indurating furnace. The DRI plant would convert the iron oxide pellets to nearly pure iron pellets (DRI pellets) in a 300- to 425-foot-high vertical shaft reactor. The DRI pellets would be fed to steel mill, which would produce hot rolled sheet steel. Project plans call for the mining of approximately 12.8 million long tons of crude ore per year at a stripping ratio of approximately 0.50:1. Approximately 2.4 million short tons per year of hot rolled sheet steel would be produced. The project would employ approximately 700 people for production, support, and administration. Economic feasibility of the project is based on a 20-year project life. Minnesota Steel at this time cannot predict whether investments for further operations would be economically desirable. Therefore, mine planning and detailed design are being prepared for 20 years of operation and environmental permits are being requested for a 20-year project life. If the project is permitted, and if Minnesota Steel proposes to extend the project life beyond the 20-year period, then modifications to the Section 404 permit and supplemental environmental review would be required.

The project would require dredging or discharging fill material into approximately 1,014 acres of wetlands. While some of the wetlands may be isolated, the majority of the wetlands are adjacent to Oxhide Creek, Snowball Creek, Pickerel Creek, or O'Brien Creek, which are tributaries to the Swan River, or they are adjacent to an unnamed tributary to the Prairie River or to an unnamed tributary to Sucker Brook, which is a tributary to the Prairie River. The Swan River and the Prairie River are tributaries to the Mississippi River, which is a navigable water of the United States. A specific compensatory wetland mitigation plan has not been developed for the project. Minnesota Steel intends to work with interested Federal and state agencies to develop an acceptable plan that would meet Federal and state compensatory mitigation requirements. The discharge of dredged or fill material into waters of the United States requires a permit issued by the Corps under Section 404 of the Clean Water Act. The final environmental impact statement will be used as a basis for the permit decision and to ensure compliance with the National Environmental Policy Act (NEPA).

FOR FURTHER INFORMATION CONTACT: Questions concerning the Draft Environmental Impact Statement (DEIS) can be addressed to Mr. Jon K. Ahlness, Regulatory Branch by letter at U.S. Army Corps of Engineers, 190 Fifth Street East, St. Paul, MN 55101-1638, by telephone at (651) 290-5381, or by e-mail at jon.k.ahlness@mvp02.usace.army.mil.

SUPPLEMENTARY INFORMATION: The Corps and the State of Minnesota will jointly prepare the DEIS. The Corps is the lead federal agency and the Minnesota Department of Natural Resources (MnDNR) is the lead state agency. The Corps and the MnDNR will prepare and release to the public a Scoping Environmental Assessment Worksheet (EAW) and a Draft Scoping Decision Document. The public will have 30 days to provide comments on those two documents. The Corps and the MnDNR will conduct a public scoping meeting in Nashwauk, Minnesota during the 30-day public comment period. A notice will be published or aired in local media once the meeting has been scheduled. Additional meetings will be conducted as needed. In accordance with 40 CFR 1506.5(c) and Corps policy, a third party contractor will be selected to prepare the DEIS. We anticipate that the DEIS will be available to the public in late 2006.

The DEIS will assess impacts of the proposed action and reasonable alternatives, identify and evaluate mitigation alternatives, and discuss potential environmental monitoring. Significant issues and resources to be identified in the DEIS will be determined through coordination with responsible Federal, state, and local agencies; the general public; interested private organizations and parties; and affected Native American Tribes. Anyone who has an interest in participating in the development of the DEIS is invited to contact the St. Paul District, Corps of Engineers. Major issues identified to date for discussion in the DEIS are the impacts of the projected project on:

1. Natural resources including: fishery, wildlife, vegetation, riparian areas, and waters of the U.S., including wetlands.

2. Water quality, water quantity, groundwater, erosion, and sedimentation.

3. Air quality.

4. Social and economic resources.

5. Downstream resources.

Additional issues of interest may be identified through the public scoping meeting and agency meetings.

Issuing a permit for the development of an open pit taconite mine and associated ore processing, steel making, and tailings facilities is considered to be a major Federal action having a significant impact on the quality of the human environment. The project: (1) Would have a significant adverse effect on wetlands (which are special aquatic sites), and (2) has the potential to significantly affect air quality, water quality, groundwater, plankton, fish, and wildlife. Our environmental review will be conducted to the requirements of the National Environmental Policy Act of 1969, National Historic Preservation Act of 1966, Council of Environmental Quality Regulations, Endangered Species Act of 1973, Section 404 of the Clean Water Act, and other applicable laws and regulations.

Dated: August 5, 2005.
Michael F. Pfenning,
Colonel, Corps of Engineers, District Engineer.

[FR Doc. 05-16109 Filed 8-12-05; 8:45 am]

BILLING CODE 3710-CY-M